DEPARTMENT OF TRANSPORTATION

Coast Guard

33 CFR Part 165

[COTP Southeast Alaska; 00-016]

RIN 2115-AA97

Safety Zone; Wrangell Narrows, Petersburg, AK

AGENCY: Coast Guard, DOT.

ACTION: Temporary final rule.

SUMMARY: The Coast Guard is establishing a temporary safety zone around the barge SWINIMOSH which will be conducting blasting/dredging operations along the navigable waters of Wrangell Narrows Shipping Channel, Petersburg, Alaska. This safety zone will require periodic complete channel closures to all vessel traffic transiting the channel as necessary for the barge SWINIMOSH to conduct operations. This safety zone is needed to protect maritime vessels transiting the area from the potential hazards associated with the blasting/dredging operations conducted by the barge SWINIMOSH.

DATES: This temporary final rule becomes effective at 12:01 a.m. November 2, 2000 and terminates at 12:01 a.m. December 16, 2000.

ADDRESSES: Documents as indicated in this preamble are available for inspection or copying at U.S. Coast Guard, Marine Safety Office, 2760 Sherwood Lane, Suite 2A, Juneau, Alaska between 8 a.m. and 3 p.m., Monday through Friday, except Federal holidays. The telephone number is (907) 463-2450.

FOR FUTHER INFORMATION CONTACT: Lieutenant Cecil McNutt Jr., Chief Port Operations Department, U.S. Coast Guard Marine Safety Office Juneau, (907) 463-2470.

SUPPLEMENTARY INFORMATION:

Regulatory History

A notice of proposed rulemaking (NPRM) was not published for this regulation. In keeping with requirements of 5 U.S.C. 553(B), the Coast Guard finds a good cause exists for not publishing a NPRM. Application for the blasting operations was not received by the Marine Safety Office Juneau until October 9, 2000. The operations are scheduled to commence November 2, 2000; thus time to publish a NPRM is inadequate for this regulation. In keeping with requirements of 5 U.S.C. 553 (d)(3), the Coast Guard also finds that good cause exists for making this regulation effective less than 30 days after publication in the Federal Register. Publication of a NPRM and delay of the effective date would be contrary to the public interest because immediate action is necessary to protect the safety of the maritime vessel traffic in the vicinity of the blasting operation.

Background and Purpose

The U.S. Army Corps of Engineers through its contractor Western Marine Construction, Inc will be conducting blasting/dredging operations on portions of Wrangell Narrows Shipping Channel for the Wrangell Narrows Project (ACOE project number DACW85-00-C-0015). This dredging project is necessary to maintain safe navigation within the Wrangell Narrows Shipping Channel. A 500-yard safety zone around the barge SWINIMOSH along with periodic complete channel closures is needed to protect the safety of the maritime vessel traffic from the potential hazards associated with blasting/dredging operations.

The blasting operations will begin 12:01 a.m. 02 November 2000, and will last until 12:01 a.m. 16 December 2000. This safety zone is necessary to protect the maritime public from the potential hazards associated with the blasting/dredging operations.

Regulatory Evaluation

This temporary rule is not a significant regulatory action under section 3(f) of the Executive Order 12866 and does not require an assessment of potential costs and benefits under sections 6(a)(3) of that Order. It has been exempted from review by the Office of Management and Budget under that Order. It is not significant under the regulatory policies and procedures of the Department of Transportation (DOT) (44FR 11040; February 26, 1979). The Coast Guard expects the economic impact of this proposal to be so minimal that a full Regulatory Evaluation under paragraph 10(e) of the regulatory policies and procedures of DOT is unnecessary.

Small Entities

Under the Regulatory Flexibility Act (5 U.S.C. 601 et seq.), the Coast Guard must consider whether this rule will have a significant impact on a substantial number of small businesses and not-for-profit organizations that are not dominant in their respective fields, and governmental jurisdictions with populations less than 50,000. For the same reasons set forth in the above Regulatory Evaluation, the Coast Guard certifies under Section 605 (b) of the Regulatory Flexibility Act (5 U.S.C. 601 et seq.) that this temporary final rule will not have a significant economic impact on a substantial number of small entities.

Assistance for Small Entities

In accordance with Sec. 213 (a) of the Small Business Regulatory Enforcement Fairness Act of 1996 (Pub. L. 104-121), the Coast Guard wants to assist small entities in understanding this rule so that they can better evaluate its effects on them and participate in the rulemaking process. If your small business or organization is affected by this rule and you have questions concerning its provisions or options for compliance, please contact the office listed in ADDRESSES in this preamble.

Collection of Information

This rule contains no information collection requirements under the Paperwork Reduction Act of 1995 (44 US.C. 3501 et seq.).

Federalism

The Coast Guard has analyzed this temporary final rule under the principles and criteria contained in Executive Order 13132 and has determined that this temporary final rule does not have sufficient federalism implications to warrant the preparation of a Federalism Assessment.

Environment

The Coast Guard considered the environmental impact of this temporary final rule and concluded that, under figure 2-1, paragraph (34)(g), of Commandant Instruction M16475.1C, this temporary final rule is categorically excluded from further environmental documentation. A “Categorical Exclusion Determination” is available in the docket for inspection or copying where indicated under ADDRESSES.

Unfunded Mandates

The Unfunded Mandates Reform Act of 1995 (2 U.S.C. 1531-1538) and E.O. 12875, Enhancing the Intergovernmental Partnership, (58 FR 58093; October 28, 1993) govern the issuance of Federal regulations that require unfunded mandates. An unfunded mandate is a regulation that requires a State, local, or tribal government or the private sector to incur direct costs without the Federal Government's having first provided the funds to pay those costs. This rule will not impose an unfunded mandate.

List of Subjects in 33 CFR Part 165

Harbors, Marine safety, Navigation (water), Reporting and recordkeeping requirements, Security measures, Waterways.

For the reasons set out in the preamble, the Coast Guard amends 33 CFR Part 165 as follows:

PART 165—[AMENDED]

1. The authority citation for Part 165 continues to read as follows:

Authority: 33 U.S.C. 1231: 50 U.S.C. 191; 33 CFR 1.05-1(g), 6.04-1, 6.04-6, and 160.5; 49 CFR 1.46.

2. A new temporary § 165.T17-SEAK-016 is added to read as follows:

§ 165.T17-SEAK-016 Wrangell Narrows Channel, Petersburg , Alaska-Safety Zone.

(a) Location. The following area is a temporary safety zone: The waters within a 500 yard radius of the barge SWINIMOSH while engaged in blasting/dredging operations to include periodic complete channel closures in Wrangell Narrows Shipping Channel, Petersburg AK from Point Lockwood Rock, Lighted Marker #1 (LL #22845), 56°34.0' N, 132°58.1' W to Rock Point, Lighted Marker #40 (LL #23070), 56°40.3' N, 132°56.1' W.

(b) Effective dates. This regulation becomes effective at 12:01 a.m. November 2, 2000 and terminates at 12:01 a.m. December 16, 2000.

(c) Regulations. In accordance with the general regulations in § 165.23 of this part, entry into, transit through, or anchoring within this safety zone is prohibited except as authorized by the Captain of the Port-Southeast Alaska. The attending tug WALDO will be standing by on channel 16 and 13 for traffic advisory. All approaching vessel traffic must contact the tug WALDO prior to transiting the channel.

Dated: 17 October 2000.
R.C. Lorigan,
Captain, U.S. Coast Guard, Captain of the Port, Southeast Alaska.

[FR Doc. 00-28056 Filed 11-1-00; 8:45 am]

BILLING CODE 4910-15-P